ELECTION ASSISTANCE COMMISSION

Sunshine Act Notice

AGENCY: U.S. Election Assistance Commission.

ACTION: Notice of public meeting agenda.

DATE & TIME: Thursday, December 3, 2009.

10 a.m.-12 p.m. ET (Morning Session).

1 p.m.-3 p.m. ET (Afternoon Session).

Place: U.S. Election Assistance Commission, 1225 New York Ave., NW., Suite 150, Washington, DC 20005 (Metro Stop: Metro Center).

Agenda: The Commission will hold a public meeting to consider administrative matters. The Commission will elect officers for 2010. The Commission will receive an update on Maintenance of Effort. The Commission will receive an update on the 2010 Election Day Survey. The Commission will hold discussions regarding voting by military and overseas citizens. Commissioners will discuss the following: EAC's partnership with the Federal Voting Assistance Program (FVAP); the Military and Overseas Voters Empowerment (MOVE) Act and the roles of EAC and FVAP with regards to implementation; a Uniformed and Overseas Citizens Absentee Voting Act (UOCAVA) Working Group; and the roles of EAC, FVAP and National Institute of Standards and Technology (NIST) in conjunction with the objectives of the working group.

Members of the public may observe but not participate in EAC meetings unless this notice provides otherwise. Members of the public may use small electronic audio recording devices to record the proceedings. The use of other recording equipment and cameras requires advance notice to and coordination with the Commission's Communications Office.*

* View EAC Regulations Implementing Government in the Sunshine Act.

This meeting and hearing will be open to the public.

PERSON TO CONTACT FOR INFORMATION: Bryan Whitener, Telephone: (202) 566-3100.

Thomas R. Wilkey,
Executive Director, U.S. Election Assistance Commission.

[FR Doc. E9-28137 Filed 11-19-09; 4:15 pm]

BILLING CODE 6820-KF-P